DEPARTMENT OF HEALTH AND HUMAN SERVICES

National Institutes of Health

National Cancer Institute; Amended Notice of Meeting

Notice is hereby given of a change in the meeting of the National Cancer Institute Special Emphasis Panel, TEP-5A: SBIR Review Meeting, March 3, 2025, 11 a.m. to 4 p.m., National Cancer Institute Shady Grove, 9609 Medical Center Drive, Room 7W534, Rockville, Maryland, 20850 which was published in the Federal Register on December 26, 2024, FR Doc 2024-30711, 89 FR 105062.

This notice is being amended to change the virtual meeting date from March 03, 2025, 11 a.m. to 4 p.m. to March 4, 2025, 11 a.m. to 4 p.m. The meeting times, format, and location will stay the same. The meeting is closed to the public.

Dated: January 14, 2025.
David W. Freeman,
Supervisory Program Analyst, Office of Federal Advisory Committee Policy.

[FR Doc. 2025-01328 Filed 1-17-25; 8:45 am]

BILLING CODE 4140-01-P